ENVIRONMENTAL PROTECTION AGENCY

[EPA-HQ-OPP-2020-0273; FRL-8927-01-OCSPP]

Agency Information Collection Activities; Proposed Renewal Collection and Request for Comment; Consolidated Pesticide Registration Submission Portal

AGENCY: Environmental Protection Agency (EPA).

ACTION: Notice.

SUMMARY: In compliance with the Paperwork Reduction Act (PRA), this document announces the availability of and solicits public comment on the following Information Collection Request (ICR) that EPA is planning to submit to the Office of Management and Budget (OMB): Consolidated Pesticide Registration Submission Portal (EPA ICR No. 2624.02 and OMB Control No. 2070-0226). This ICR represents a renewal of an existing ICR that is currently approved through July 31, 2026. Before submitting the ICR to OMB for review and approval under the PRA, EPA is soliciting comments on specific aspects of the information collection that is summarized in this document. The ICR and accompanying material are available in the docket for public review and comment.

DATES: Comments must be received on or before February 2, 2026.

ADDRESSES: Submit your comments, identified by docket identification (ID) number Docket ID No. EPA-HQ-OPP-2020-0273, online at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Carolyn Siu, Office of Mission Critical Operations (Mail Code 7602M), Office of Chemical Safety and Pollution Prevention, Environmental Protection Agency, 1200 Pennsylvania Ave. NW, Washington, DC 20460-0001; telephone number: (202) 566-1205; email address: siu.carolyn@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Consolidated Pesticide Registration Submission Portal.

EPA ICR No.: 2624.02.

OMB Control No.: 2070-0226.

ICR Status: This ICR is currently approved through July 31, 2026. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR part 9.

Abstract: This ICR covers pesticide registration collection activities supporting the statutorily mandated pesticide registration program under the Federal Insecticide Fungicide and Rodenticide Act (FIFRA) and the Federal Food, Drug, and Cosmetic Act (FFDCA) as amended by the Food Quality Protection Act (FQPA). Such activities include pesticide registration, pesticide use, pesticide sale and distribution, pesticide permitting activities, determinations regarding whether a product must be regulated under FIFRA or Pesticide Tolerances all which are submitted electronically through the Agency's Central Data Exchange (CDX) system.

The ICR, which is available in the docket along with other related materials, provides a detailed explanation of the collection activities and the burden estimate that is only briefly summarized here:

Form number(s): 8570-1, 8570-4, 8570-5, 8570-17, 8570-25, 8570-27, 8570-34, 8570-35, 8570-36 and 8570-37.

Respondents/affected entities: Entities potentially affected by this ICR include Pesticide and other agricultural chemical manufacturing, research, and development in the physical, engineering, and life sciences, biological products (except diagnostic) manufacturing, colleges, universities, and professional schools, farm supplies wholesalers, flower, nursery stock, and florist's supplies wholesalers, state government, other chemical and allied product merchant wholesalers, exterminating and pest control service, management, scientific, and technical consulting services. North American Industrial Classification System (NAICS) codes identified in question 12 of the ICR.

Respondent's obligation to respond: Mandatory. FIFRA and FFDCA.

Estimated number of potential respondents: 15,023.

Frequency of response: On occasion.

Total estimated average number of responses for each respondent: Between 1 to 74.

Total estimated burden: 2,234,433 hours (per year). Burden is defined at 5 CFR 1320.3(b).

Total estimated costs: $172,873,497 (per year), includes $0 annualized capital investment or maintenance and operational costs.

III. Are there changes in the estimates from the last approval?

There is an increase of 59,385 hours in the total estimated respondent burden compared with that identified in the ICR currently approved by OMB. This increase reflects EPA's updating of burden estimates for this collection based upon historical information on the number of responses anticipated for some ICs and the inclusion of an additional prior ICR titled, “Exemptions of Certain Plant Incorporated Protectants (PIPs) Derived from Newer Technologies” (OMB Control No. 2070-0214; Rulemaking RIN-2070-AK54). Based upon revised estimates and the inclusion of an additional IC, the total number of responses anticipated across categories has increased by 32,627 with a corresponding increase in the associated burden hours. While burden hours increased, the annual total costs to respondents have decreased due to a program change to reflect updated guidance on the calculation of overhead in fully loaded wages. This change is the result of a program change.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: November 27, 2025.
Nancy B. Beck,
Principal Deputy Assistant Administrator, Office of Chemical Safety and Pollution Prevention.

[FR Doc. 2025-21758 Filed 12-1-25; 8:45 am]

BILLING CODE 6560-50-P